DEPARTMENT OF TRANSPORTATION

Maritime Administration

[Docket No. MARAD-2008-0024]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before May 20, 2008.

FOR FURTHER INFORMATION CONTACT: Jean McKeever, Maritime Administration, 1200 New Jersey Avenue, SE., Washington, DC 20590. Telephone: 202-366-5737; FAX 202-366-6988 or e-mail: jean.mckeever@dot.gov.

Copies of this collection can also be obtained from that office.

SUPPLEMENTARY INFORMATION: Title of Collection: Application for Construction Reserve Fund (CRF) and Annual Statements.

Type of Request: Extension of currently approved information collection.

OMB Control Number: 2133-0032.

Form Numbers: None.

Expiration Date of Approval: Three years after date of approval by the Office of Management and Budget.

Summary of Collection of Information: The collection consists of an application required for all citizens who own or operate vessels in the U.S. foreign or domestic commerce and desire tax benefits under the Construction Reserve Fund (CRF) program. The annual statement sets forth a detailed analysis of the status of the CRF when each income tax return is filed.

Need and Use of the Information: The information is required in order for MARAD to determine whether the applicant is qualified for the benefits of the CRF program.

Description of Respondents: Owners or operators of vessels in the domestic or foreign commerce.

Annual Responses: 17 responses.

Annual Burden: 153 hours.

Comments: Comments should refer to the docket number that appears at the top of this document. Written comments may be submitted to the Docket Clerk, U.S. DOT Dockets, Room W12-140, 1200 New Jersey Avenue, SE., Washington, DC 20590. Comments may also be submitted by electronic means via the Internet at http://www.regulations.gov. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal holidays. An electronic version of this document is available on the World Wide Web at http://www.regulations.gov.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov.

Authority: 49 CFR 1.66

By order of the Maritime Administrator.
Dated: March 17, 2008.
Christine S. Gurland,
Acting Secretary, Maritime Administration.

[FR Doc. E8-5721 Filed 3-20-08; 8:45 am]

BILLING CODE 4910-81-P